FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[July 1, 2014 thru July 31, 2014]
07/01/2014
20141057 | G | United Natural Foods, Inc.; Tony's Fine Foods; United Natural Foods, Inc.
20141083 | G | LifePoint Hospitals, Inc. Conemaugh Health System, Inc.; LifePoint Hospitals, Inc.
20141097 | G | Wind Point Partners VII-A, L.P.; Charles L. Shor; Wind Point Partners VII-A, L.P.
20141149 | G | Trilantic Capital Partners V (North America) AIV L.P.; Traeger Pellet Grills Holdings LLC; Trilantic Capital Partners V (North America) AIV L.P.
07/03/2014
20140555 | G | Valeant Pharmaceuticals International, Inc.; Precision Dermatology, Inc.; Valeant Pharmaceuticals International, Inc.
20141053 | G | Nestle, S.A.; Valeant Pharmaceuticals International, Inc.; Nestle, S.A.
20141123 | G | Temasek Holdings (Private) Limited; Adconion Media Group Limited Temasek Holdings (Private) Limited.
07/07/2014
20141061 | G | Palladian Holdings, Inc.; iParadigms Holdings LLC; Palladian Holdings, Inc.
20141136 | G | The Priceline Group Inc.; OpenTable, Inc.; The Priceline Group Inc.
20141148 | G | Aon plc; StoneRiver Group, L.P.; Aon plc.
20141152 | G | ICV Partners III, L.P.; CPM Holdco, Inc.; ICV Partners III, L.P.
20141160 | G | John C. Malone; Liberty TripAdvisor Holdings, Inc.; John C. Malone.
20141161 | G | Liberty TripAdvisor Holdings, Inc.; TripAdvisor, Inc.; Liberty TripAdvisor Holdings, Inc.
20141163 | G | Pamlico Capital III, L.P.; Racecar Holdings, LLC; Pamlico Capital III, L.P.
20141167 | G | Sequential Brands Group, Inc.; Carlyle U.S. Equity Opportunity Fund, L.P.; Sequential Brands Group, Inc.
20141175 | G | Carlyle U.S. Equity Opportunity Fund, L.P.; Sequential Brands Group, Inc.; Carlyle U.S. Equity Opportunity Fund, L.P.
07/08/2014
20141164 | G | Phillips 66; Dominus Capital Partners LP; Phillips 66.
20141181 | G | Merz Holding GmbH & Co. KG; Ulthera, Inc.; Merz Holding GmbH & Co. KG.
07/09/2014
20141119 | G | BVO Holdings, LLC; Ronald I. Dozoretz, M.D. and Beth Dozoretz; BVO Holdings, LLC.
07/10/2014
20140842 | G | GTCR Fund IX/A, L.P.; Nordion (Canada) Inc.; GTCR Fund IX/A, L.P.
20141171 | G | Google. Inc.; Dropcam, Inc.; Google, Inc.
20141184 | G | Motherson Sumi Systems Limited; Stoneridge, Inc.; Motherson Sumi Systems Limited.
20141192 | G | Calera Capital Partners IV, L.P.; USS Parent Holding Corp.; Calera Capital Partners IV, L.P.
20141195 | G | TA XI L.P.; SkinnyPop Popcorn LLC; TA XI L.P.
07/11/2014
20141103 | G | AmSurg Corp.; Hellman & Friedman Capital Partners VI, L.P.; AmSurg Corp.
20141104 | G | Hellman & Friedman Capital Partners VI, L.P.; AmSurg Corp.; Hellman & Friedman Capital Partners VI, L.P.
20141106 | G | Hellman and Friedman Capital Partners VI (Parallel), LP.; AmSurg Corp. Hellman and Friedman Capital Partners VI (Parallel), L.P.
20141153 | G | WEX Inc.; Genstar Capital Partners V, L.P.; WEX Inc.
20141178 | G | John C. Malone; Liberty Interactive Corporation; John C. Malone.
20141186 | G | Oleum S.a.r.l.; Deoleo S.A.; Oleum S.a.r.l.
07/14/2014
20141165 | G | Blackstone Capital Partners VI L.P.; Marlin Equity II, L.P.; Blackstone Capital Partners VI L.P.
20141182 | G | Opera Software ASA; Insight Venture Partners VI, L.P.; Opera Software ASA.
20141185 | G | Lagardere SCA; Perseus Capital, L.L.C.; Lagardere SCA.
20141198 | G | Falcon Strategic Partners IV, LP; Laney Directional Holdings, LLC; Falcon Strategic Partners IV, LP.
20141203 | G | Catholic Health Initiatives; St. Alexius Medical Center; Catholic Health Initiatives.
20141206 | G | Cox Family Voting Trust u/a/d 7/26/13; Twenty-First Century Fox, Inc.; Cox Family Voting Trust u/a/d 7/26/13.
20141207 | G | Twenty-First Century Fox, Inc.; Cox Family Voting Trust u/a/d 7/26/13; Twenty-First Century Fox, Inc.
07/15/2014
20141157 | G | Samsonite International S.A.; Black Diamond Inc.; Samsonite International S.A.
20141227 | G | Group 1 Automotive, Inc.; William F. Munday; Group 1 Automotive, Inc.
07/16/2014
20141194 | G | Stryker Corporation; Small Bone Innovations, Inc; Stryker Corporation.
07/17/2014
20141143 | G | China Huaxin Post and Telecommunication Economy Dev. Center; Alcatel-Lucent; China Huaxin Post and Telecommunication Economy Dev. Center.
20141172 | G | Starboard Value and Opportunity Fund LP; Darden Restaurants, Inc.; Starboard Value and Opportunity Fund LP.
20141191 | G | Levine Leichtman Capital Partners V. L.P.; Roark-FASTSIGNS LLC; Levine Leichtman Capital Partners V, L.P.
20141193 | G | Genstar Capital Partners VI, L.P.; Case Interactive Media, Inc.; Genstar Capital Partners VI, L.P.
20141209 | G | Texas Pipe & Supply Company, Ltd. Netz Group Ltd; Texas Pipe & Supply Company, Ltd.
07/18/2014
20141159 | G | Geisinger Health System Foundation; Sisters of Christian Charity Healthcare Corp Geisinger Health System Foundation.
07/21/2014
20131165 | G | Sinclair Broadcast Group, Inc.; Perpetual Corporation; Sinclair Broadcast Group, Inc.
20141202 | G | Nokia Corporation; HCP Wireless, LLC; Nokia Corporation.
20141208 | G | Vista Foundation Fund II, L.P.; SFW Capital Partners Fund L.P.; Vista Foundation Fund II, L.P.
20141231 | G | Atmel Corporation; Newport Media, Inc.; Atmel Corporation.
20141238 | G | Validus Holdings, Ltd.; Ebelphie Private Foundation; Validus Holdings, Ltd.
20141242 | G | Consolidated Communications Holdings, Inc.; Enventis Corporation; Consolidated Communications Holdings, Inc.
20141248 | G | Wingate Partners V, L.P.; Monomoy Capital Partners II, L.P.; Wingate Partners V, L.P.
20141261 | G | Randal J. Kirk; Pro-Edge, LP; Randal J. Kirk.
07/22/2014
20141132 | G | Kindred Healthcare, Inc.; Gentiva Health Services, Inc.; Kindred Healthcare, Inc.
20141215 | G | JANA Nirvana Offshore Fund, Ltd.; PetSmart, Inc.; JANA Nirvana Offshore Fund, Ltd.
20141216 | G | JANA Offshore Partners, Ltd.; PetSmart, Inc.; JANA Offshore Partners, Ltd.
20141245 | G | Teleperfonnance S.A.; The Virgo Trust; Teleperformance S.A.
20141253 | G | Hormel Foods Corporation; Gregory Pickett; Hormel Foods Corporation.
07/23/2014
20140978 | G | Bel Fuse Inc.; Emerson Electric Co.; Bel Fuse Inc.
20141158 | G | Mr. Pierre Paul Lassonde Secom Co., Ltd.; Mr. Pierre Paul Lassonde.
20141190 | G | Marlin Equity IV, L.P.; CA. Inc.; Marlin Equity IV, L.P.
20141211 | G | Providence Equity Partners VI, L.P.; VitalSmans, LC; Providence Equity Partners VI, L.P.
20141213 | G | TreeHouse Foods, Inc.; Snacks Parent Corporation; TreeHouse Foods, Inc.
20141221 | G | Sensata Technologies Holding N.V.; Littlejohn Fund III, L.P.; Sensata Technologies Holding N.V.
20141234 | G | Alcoa Inc.; Oak.Hill Capital Partners III. L.P.; Alcoa Inc.
20141244 | G | Thoma Bravo Fund XI, L.P.; Sparta Holding Corporation; Thoma Bravo Fund XI, L.P.
20141258 | G | PGP Investors, LLC; Voting Trust c/o Raymond Johnson; PGP Investors, LLC.
20141266 | G | Roche Holding Ltd.; Seragon Pharmaceuticals Inc.; Roche Holding Ltd.
07/24/2014
20141199 | G | Trian Partners, L.P.; The Bank of New York Mellon Corporation; Trian Partners, L.P.
20141200 | G | Trian Partners Strategic Investment Fund II, L.P.; The Bank of New York Mellon Corporation; Trian Partners Strategic Investment Fund II, L.P.
20141201 | G | Trian Star Trust Intertrust Fund Services (Cayman) Limited; The Bank of New York Mellon Corporation; Trian Star Trust Intertrust Fund Services (Cayman) Limited.
20141243 | G | Golden Gate Capital Opportunity Fund, L.P.; Green Street Holdings, Inc.; Golden Gate Capital Opportunity Fund, L.P.
07/25/2014
20141170 | G | Siemens Aktiengesellschaft; Rolls-Royce Holdings plc; Siemens Aktiengesellschaft.
20141250 | G | salesforce.com, inc.; RelatelQ, Inc.; salesforce.com, inc.
20141259 | G | Edward S. Lampert; AutoNation, Inc.; Edward S. Lampert.
20141260 | G | Linn Energy, LLC; Devon Energy Corporation; Linn Energy, LLC.
20141263 | G | Berkshire Hathaway, Inc.; RoundTable Healthcare Partners II, L.P.; Berkshire Hathaway, Inc.
20141264 | G | Owens & Minor, Inc.; Medical Action Industries Inc.; Owens & Minor, Inc.
20141268 | G | Realogy Holdings Corp.; ZipRealty, Inc.; Realogy Holdings Corp.
20141269 | G | The Kroger Co.; Vitacost.com, Inc.; The Kroger Co.
20141270 | G | Ingenico S.A.; WCAS XI-GC, L.P. lngenico S.A.
20141272 | G | Consonance Private Equity, L.P.; Omnicare, Inc.; Consonance Private Equity, L.P.
20141274 | G | London Stock Exchange Group plc; The Northwestern Mutual Life Insurance Company; London Stock Exchange Group plc.
20141284 | G | Green Equity Investors VI, L.P.; Mister Car Wash Holdings Inc.; Green Equity Investors VI, L.P.
20141286 | G | The Dai-ichi Life Insurance Company, Limited; Protective Life Corporation; The Dai-ichi Life Insurance Company, Limited.
20141290 | G | Timothy D. Cook; Apple Inc.; Timothy D. Cook.
07/28/2014
20141254 | G | Nabors Industries Ltd. C&J Energy Services, Inc.; Nabors Industries Ltd.
20141273 | G | Keats Atlanta Infrastructure L.P.; Acciona, S.A.; Keats Atlanta Infrastructure L.P.
20141279 | G | Danaher Corporation; Siemens Aktiengesellschaft; Danaher Corporation.
07/29/2014
20141217 | G | Jazz Pharmaceuticals Public Limited Company; Sigma-Tau Finanziaria, S.p.A.; Jazz Pharmaceuticals Public Limited Company.
20141230 | G | Berkshire Fund VIII, L.P.; Richard and Sharon Portillo; Berkshire Fund VIII, L.P.
20141265 | G | St. Jude Medical, Inc.; Linsalata Capital Partners Fund V, L.P.; St. Jude Medical, Inc.
20141275 | G | Mark Zuckerberg; Pond Ventures Nominee III Limited; Mark Zuckerberg.
20141276 | G | Chow Tai Fook Capital Limited; Glenn Rothman; Chow Tai Fook Capital Limited.
20141297 | G | Discovery Communications, Inc.; All3Media Holdings Limited; Discovery Communications, Inc.
07/30/2014
20141073 | G | Gebr. Knauf Verwaltungsgesellschaft KG; Guardian Industries Corp.; Gebr. Knauf Verwaltungsgesellschaft KG.
20141237 | G | Silver Lake Partners IV, L.P.; QBS Holding Company, Inc.; Silver Lake Partners IV, L.P.
20141249 | G | Ullink S.a.r.l.; Intercontinental Exchange, Inc.; Ullink S.a.r.l.
20141283 | G | QLT Inc.; Auxilium Pharmaceuticals, Inc.; QLT Inc.
20141287 | G | Ares Corporate Opportunities Fund IV, L.P.; Summit Partners Private Equity Fund VII-A, L.P. Ares Corporate Opportunities Fund IV, L.P.
07/31/2014
20141187 | G | Hapag-Lloyd AG; Compania Sud Americana de Vapores S.A.; Hapag-Lloyd AG.

FOR FURTHER INFORMATION CONTACT: Renee Chapman, Contact Representative, or Theresa Kingsberry, Legal Assistant, Federal Trade Commission, Premerger Notification Office, Bureau of Competition, Room H-303, Washington, DC 20580, (202) 326-3100.

By Direction of the Commission.
Donald S. Clark,
Secretary.

[FR Doc. 2014-18958 Filed 8-11-14; 8:45 am]

BILLING CODE 6750-01-M